DEPARTMENT OF LABOR

Employment and Training Administration

[TA-W-50,643]

Aran Mold and Die Company, Inc., Elmwood Park, NJ; Notice of Negative Determination on Reconsideration on Remand

The United States Court of International Trade (USCIT) granted the Secretary of Labor's motion for a voluntary remand for further investigation in Former Employees of Aran Mold and Die Company, Inc. v. Elaine Chao, U.S. Secretary of Labor, No. 03-00362.

The Department's initial denial for the workers of Aran Mold and Die Company, Inc., Elmwood, New Jersey (hereafter “Aran Mold and Die”), issued on February 12, 2003 and published in the Federal Register on March 26, 2003 (68 FR 14708), was based on the finding that workers did not produce an article within the meaning of section 222 of the Trade Act of 1974. It was determined that the subject worker group were not engaged in the production of an article, but provided support services to workers producing plastic injection molding, and that production at the subject plant ceased more than one year prior to the date of the petition (January 14, 2003).

On April 2, 2003, the petitioner requested administrative reconsideration, asserting that workers were engaged in production work and, therefore, were not service providers.

On April 15, 2003, the Department issued a Notice of Affirmative Determination Regarding Application for Reconsideration, published in the Federal Register on April 24, 2003 (68 FR 20179), stating that the workers did produce a product (plastic injection molds).

The Department's Notice of Negative Determination on Reconsideration was issued on April 21, 2003 and published in the Federal Register on May 7, 2003 (68 FR 24505). During the reconsideration investigation, the Department conducted a survey of two of the subject company's customers regarding their purchases of plastic injection molds during 2001 and 2002. The survey revealed no import purchases of plastic injection molds during the surveyed time periods.

On remand, the petitioner requested that the Department review its reconsideration determination, stating that the subject company produced plastic injection molded components, not plastic injection molds as determined in the reconsideration investigation. The Department contacted the subject company official, requesting additional and detailed information regarding the subject plant's sales and production during 2001 and 2002, the closure of the subject plant, and the subject company's plastic injection molded components customers.

The remand investigation revealed that the subject plant ceased production of plastic injection molded components in October 2001 and that sales continued until February 2002.

A careful review of a survey conducted of the subject company's two major customers revealed that neither customer imported in 2001, one customer shifted reliance from the subject company to other domestic sources, and both customers did not purchase from the subject company in 2002.

However, even if there had been increased imports during the relevant time periods, the workers would not be eligible to apply for trade adjustment assistance because the there was no production within the relevant period. Because production at the subject plant ceased in October 2001, no production occurred at the subject plant during the relevant time period.

Conclusion

After reconsideration on remand, I affirm the original notice of negative determination of eligibility to apply for adjustment assistance for workers and former workers of Aran Mold and Die Company, Inc., Elmwood Park, New Jersey.

Signed at Washington, DC this 11th day of September 2003.
Elliott S. Kushner,
Certifying Officer, Division of Trade Adjustment Assistance.

[FR Doc. 03-24716 Filed 9-29-03; 8:45 am]

BILLING CODE 4510-30-M